DEPARTMENT OF ENERGY

Federal Energy Regulatory Commission

Combined Notice of Filings #1

Take notice that the Commission received the following electric rate filings:

Docket Numbers: ER14-152-011; ER13-1143-008; ER13-1144-008; ER10-2196-007; ER20-528-002; ER17-1849-006; ER10-2740-015; ER15-1657-011; ER10-2742-014.

Applicants: Elgin Energy Center, LLC, Essential Power OPP, LLC, Essential Power Rock Springs, LLC, Lakewood Cogeneration, L.P., Lincoln Power, L.L.C., Nautilus Power, LLC, Rocky Road Power, LLC, SEPG Energy Marketing Services, LLC, Tilton Energy LLC.

Description: Notice of Non-Material Change in Status of Elgin Energy Center, LLC, et al.

Filed Date: 7/17/20.

Accession Number: 20200717-5172.

Comments Due: 5 p.m. ET 8/7/20.

Docket Numbers: ER15-704-017.

Applicants: Pacific Gas and Electric Company.

Description: Compliance filing: CCSF Compliance filing for order on rehearing CCSF WDT IA (SA 275) to be effective 7/1/2015.

Filed Date: 7/17/20.

Accession Number: 20200717-5104.

Comments Due: 5 p.m. ET 8/7/20.

Docket Numbers: ER15-704-018.

Applicants: Pacific Gas and Electric Company.

Description: Compliance filing: Compliance filing following order on rehearing CCSF WDT IA (SA 275) to be effective 7/23/2015.

Filed Date: 7/17/20.

Accession Number: 20200717-5105.

Comments Due: 5 p.m. ET 8/7/20.

Docket Numbers: ER19-1368-001.

Applicants: Midcontinent Independent System Operator, Inc.

Description: Midcontinent Independent System Operator, Inc. submits tariff filing per 35.19a(b): Refund Report_Manitiwoc Public Uitlities to be effective N/A.

Filed Date: 7/17/20.

Accession Number: 20200717-5093.

Comments Due: 5 p.m. ET 8/7/20.

Docket Numbers: ER19-1936-002.

Applicants: Idaho Power Company.

Description: Compliance filing: Compliance Filing—Order Nos. 845 and 845-A to be effective 5/22/2019.

Filed Date: 7/17/20.

Accession Number: 20200717-5083.

Comments Due: 5 p.m. ET 8/7/20.

Docket Numbers: ER19-1951-002.

Applicants: ISO New England Inc., New England Power Pool Participants Committee.

Description: Compliance filing: ISO-NE & NEPOOL; Revisions in Further Compliance with Order Nos. 845 and 845-A to be effective 3/19/2020.

Filed Date: 7/17/20.

Accession Number: 20200717-5050.

Comments Due: 5 p.m. ET 8/7/20.

Docket Numbers: ER19-1961-003.

Applicants: GridLiance High Plains LLC.

Description: Compliance filing: GHP Order No. 845 Compliance Filing—OATT Attachments M and N to be effective 5/22/2019.

Filed Date: 7/17/20.

Accession Number: 20200717-5125.

Comments Due: 5 p.m. ET 8/7/20.

Docket Numbers: ER19-2224-001.

Applicants: Midcontinent Independent System Operator, Inc.

Description: Midcontinent Independent System Operator, Inc. submits tariff filing per 35.19a(b): Refund Report_Turtle Creek to be effective N/A.

Filed Date: 7/17/20.

Accession Number: 20200717-5097.

Comments Due: 5 p.m. ET 8/7/20.

Docket Numbers: ER19-2235-001.

Applicants: Midcontinent Independent System Operator, Inc.

Description: Midcontinent Independent System Operator, Inc. submits tariff filing per 35.19a(b): Refund Report_Tuscaola Bay to be effective N/A.

Filed Date: 7/17/20.

Accession Number: 20200717-5100.

Comments Due: 5 p.m. ET 8/7/20.

Docket Numbers: ER20-2433-001.

Applicants: Duke Energy Florida, LLC.

Description: Tariff Amendment: Amendment to DEF-Archer Solar EP Agreement Filing to be effective 7/17/2020.

Filed Date: 7/16/20.

Accession Number: 20200716-5136.

Comments Due: 5 p.m. ET 8/6/20.

Docket Numbers: ER20-2446-000.

Applicants: Bitter Ridge Wind Farm, LLC.

Description: Baseline eTariff Filing: Reactive Power Compensation Filing to be effective 9/14/2020.

Filed Date: 7/16/20.

Accession Number: 20200716-5133.

Comments Due: 5 p.m. ET 8/6/20.

Docket Numbers: ER20-2447-000.

Applicants: Florida Power & Light Company.

Description: Tariff Cancellation: FPL and 77IV 8me LLC-LGIA Service Agreement No. 328 Notice of Cancellation to be effective 7/17/2020.

Filed Date: 7/16/20.

Accession Number: 20200716-5147.

Comments Due: 5 p.m. ET 8/6/20.

Docket Numbers: ER20-2448-000.

Applicants: American Kings Solar, LLC.

Description: Baseline eTariff Filing: MBR Application to be effective 11/1/2020.

Filed Date: 7/17/20.

Accession Number: 20200717-5012.

Comments Due: 5 p.m. ET 8/7/20.

Docket Numbers: ER20-2449-000.

Applicants: The United Illuminating Company.

Description: Section 205(d) Rate Filing: Localized Costs Sharing Agreement No. 20 to be effective 7/1/2020.

Filed Date: 7/17/20.

Accession Number: 20200717-5051.

Comments Due: 5 p.m. ET 8/7/20.

Docket Numbers: ER20-2450-000.

Applicants: PJM Interconnection, L.L.C.

Description: Section 205(d) Rate Filing: Original WMPA SA No. 5700; Queue No. AF1-001 to be effective 6/17/2020.

Filed Date: 7/17/20.

Accession Number: 20200717-5084.

Comments Due: 5 p.m. ET 8/7/20.

Docket Numbers: ER20-2451-000.

Applicants: Basin Electric Power Cooperative.

Description: Initial rate filing: Submission of Transmission-Related Agreements to be effective 7/17/2020.

Filed Date: 7/17/20.

Accession Number: 20200717-5086.

Comments Due: 5 p.m. ET 8/7/20.

Docket Numbers: ER20-2452-000.

Applicants: Hamilton Liberty LLC.

Description: Compliance filing: Non-Material Change in Status, Notice of Succession, and New eTariff Baseline to be effective 7/18/2020.

Filed Date: 7/17/20.

Accession Number: 20200717-5088.

Comments Due: 5 p.m. ET 8/7/20.

Docket Numbers: ER20-2453-000.

Applicants: Hamilton Patriot LLC.

Description: Compliance filing: Non-Material Change in Status, Notice of Succession, and New eTariff Baseline to be effective 7/18/2020.

Filed Date: 7/17/20.

Accession Number: 20200717-5089.

Comments Due: 5 p.m. ET 8/7/20.

Docket Numbers: ER20-2454-000.

Applicants: New England Power Company.

Description: Section 205(d) Rate Filing: Filing of Eng'g & Procurement Agmt with DWW REV I & Request for CEII Treatment to be effective 6/17/2020.

Filed Date: 7/17/20.

Accession Number: 20200717-5139.

Comments Due: 5 p.m. ET 8/7/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 17, 2020.
Nathaniel J. Davis, Sr.,
Deputy Secretary.

[FR Doc. 2020-15971 Filed 7-22-20; 8:45 am]

BILLING CODE 6717-01-P